DEPARTMENT OF THE INTERIOR

Bureau of Land Management

[LLNM950000 L13400000.BX0000 18XL1109AF]

Notice of Filing of Plats of Survey, New Mexico

AGENCY: Bureau of Land Management, Interior.

ACTION: Notice of Filing of Plats of Survey.

SUMMARY: The plats of survey described below are scheduled to be officially filed in the New Mexico State Office, Bureau of Land Management, Santa Fe, New Mexico, thirty (30) calendar days from the date of this publication.

FOR FURTHER CONTACT INFORMATION: These plats will be available for inspection in the New Mexico State Office, Bureau of Land Management, 301 Dinosaur Trail, Santa Fe, New Mexico. Copies may be obtained from this office upon payment. Contact Carlos Martinez at 505-954-2096, or by email at cjjmarti@blm.gov, for assistance. Persons who use a telecommunications device for the deaf (TDD) may call the Federal Information Relay Service (FIRS) at 1-800-877-8339 to contact the above individual during normal business hours.

SUPPLEMENTARY INFORMATION:

New Mexico Principal Meridian, New Mexico (NM)

The plat representing the dependent resurvey and survey in Township 10 North, Range 7 West, of the New Mexico Principal Meridian, accepted May 15, 2018 for Group 1188 NM.

The plat representing the survey of Tract 24 within the Sebastian Martin Grant, of the New Mexico Principal Meridian, accepted May 29, 2018 for Group 1155 NM.

The Indian Meridian, Oklahoma (OK)

The plat, representing the dependent resurvey and survey in Township 7 North, Range 10 West, of the Indian Meridian, accepted May 17, 2018, for Group 234 OK.

The supplemental plat, restoring the lotting in section 3, created on January 18, 2007 in Township 5 South, Range 14 West, of the Indian Meridian, accepted January 30, 2018, for Group 236 OK.

The supplemental plat, restoring the lotting in sections 4 and 9, created on January 18, 2007 in Township 5 South, Range 14 West, of the Indian Meridian, accepted January 30, 2018, for Group 236 OK.

The Sixth Principal Meridian, Kansas (KA)

The plat representing the dependent resurvey and survey in Township 1 South, Range 18 East, of the Sixth Principal Meridian, accepted February 18, 2018 for Group 40 KS. These plats are scheduled for official filing 30 days from the notice of publication in the Federal Register, as provided for in the BLM Manual Section 2097—Opening Orders.

If a protest against a survey, in accordance with 43 CFR 4.450-2, of the above plats is received prior to the date of official filing, the filing will be stayed pending consideration of the protest.

A plat will not be officially filed until the day after all protests have been dismissed and become final or appeals from the dismissal affirmed.

A person or party who wishes to protest against any of these surveys must file a written protest with the Bureau of Land Management New Mexico State Director stating that they wish to protest.

A statement of reasons for a protest may be filed with the Notice of Protest to the State Director or the statement of reasons must be filed with the State Director within thirty (30) days after the protest is filed.

Dated: June 12, 2018.
Thomas A. Maestas,
Acting Chief Cadastral Surveyor for New Mexico.

[FR Doc. 2018-13123 Filed 6-18-18; 8:45 am]

BILLING CODE 4310-FB-P